DEPARTMENT OF DEFENSE

GENERAL SERVICES ADMINISTRATION

NATIONAL AERONAUTICS AND SPACE ADMINISTRATION

48 CFR Parts 2, 15, 17, 37 and 52

[FAC 2021-03; Item IV; Docket No. FAR-2020-0052; Sequence No. 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make needed editorial changes.

DATES: Effective: February 16, 2021.

FOR FURTHER INFORMATION CONTACT: Ms. Lois Mandell, Regulatory Secretariat Division (MVCB), at 202-501-4755 or GSARegSec@gsa.gov. Please cite FAC 2021-03, Technical Amendments.

SUPPLEMENTARY INFORMATION: In order to update certain elements in 48 CFR parts 2, 15, 17, 37, and 52 this document makes editorial changes to the FAR.

List of Subjects in 48 CFR Parts 2, 15, 17, 37 and 52

Government procurement.

William F. Clark,
Director, Office of Government-Wide Acquisition Policy, Office of Acquisition Policy, Office of Government-Wide Policy.

Therefore, DoD, GSA, and NASA amend 48 CFR parts 2, 15, 17, 37, and 52 as set forth below:

1. The authority citation for 48 CFR parts 2, 15, 17, 37, and 52 continues to read as follows:

Authority: 40 U.S.C. 121(c); 10 U.S.C. chapter 137; and 51 U.S.C. 20113.

PART 2—DEFINITIONS OF WORDS AND TERMS

2.101 [Amended]

2. Amend section 2.101, in paragraph (b), in the definition “Ineligible” by removing from paragraph (4) “$15,000” and adding “$10,000” in its place.

PART 15—CONTRACTING BY NEGOTIATION

3. Amend section 15.209 by adding paragraph (e) to read as follows:

15.209 Solicitation provisions and contract clauses.

* * * * *

(e) The contracting officer shall insert the provision at 52.215-5, Facsimile Proposals, in solicitations if facsimile proposals are authorized (see 15.203(d)).

* * * * *

PART 17—SPECIAL CONTRACTING METHODS

17.502 1 [Amended]

4. Amend section 17.502-1 by—

a. Removing from the sixth sentence of paragraph (a)(1)(i) “Policy” and “__acq/iac__” adding “Policy (OFPP)” and “_acq/iac_” in their place; respectively; and

b. Removing from paragraph (b) introductory text “Office of Federal Procurement Policy (OFPP)” and adding “OFPP” in its place.

PART 37—SERVICE CONTRACTING

37.103 [Amended]

5. Amend section 37.103 in paragraph (d) by removing “42 U.S.C. 13041, as amended,” and adding “34 U.S.C. 20351” in its place.

PART 52—SOLICITATION PROVISIONS AND CONTRACT CLAUSES

6. Amend section 52.212-3 by—

a. Revising the date of the provision; and

b. Revising paragraph (f)(2);

c. Revising the table in paragraph (g)(1)(ii), and the undesignated tables in (g)(1)(iii), (g)(2), and (g)(3);

d. Revising the tables in (g)(4) and (g)(5)(ii); and

e. Revising the paragraph (i)(1).

The revisions read as follows:

52.212-3 Offeror Representations and Certifications—Commercial Items.

* * * * *

Offeror Representations and Certifications—Commercial Items (Feb 2021)

* * * * *

(f) * * *

(2) Foreign End Products:

Line item No. | Country of origin

[List as necessary]

* * * * *

(g)(1) * * *

(ii) * * *

Line item No. | Country of origin

[List as necessary]

(iii) * * *

Other Foreign End Products:

Line item No. | Country of origin

[List as necessary]

* * * * *

(2) * * *

Canadian End Products:

Line item No.

[List as necessary]

(3) * * *

Canadian or Israeli End Products:

Line item No. | Country of origin

[List as necessary]

(g)(4) * * *

* * * * *

Line item No. | Country of origin

[List as necessary]

(5) * * *

(ii) * * *

Other End Products:

Line item No. | Country of origin

[List as necessary]

* * * * *

(i) * * *

(1) Listed end products.

Listed end product | Listed countries of origin

* * * * *

7. Amend section 52.212-5 in Alternate II by—

a. Revising the date of the Alternate; and

b. Revising paragraphs (e)(1)(ii)(R)(1) and (2) to read as follows:

52.212-5 Contract Terms and Conditions Required To Implement Statutes or Executive Orders—Commercial Items.

* * * * *

Alternate II (Feb 2021). * * *

(e)(1) * * *

(ii) * * *

(R)__(1) 52.224-3, Privacy Training (Jan 2017) (5 U.S.C. 552a).

___(2) Alternate I (Jan 2017) of 52.224-3.

* * * * *

8. Amend section 52.213-4 by—

a. Revising the date of the clause; and

b. Adding paragraph (a)(2)(ix).

The revision and addition read as follows:

52.213-4 Terms and Conditions—Simplified Acquisitions (Other Than Commercial Items).

* * * * *

Terms and Conditions—Simplified Acquisitions (Other Than Commercial Items) (Feb 2021)

* * * * *

(a) * * *

(2) * * *

(ix) 52.253-1, Computer Generated Forms (Jan 1991).

* * * * *

9. Amend section 52.222-18 by revising the date of the provision and the undesignated table in paragraph (b) to read as follows:

52.222-18 Certification Regarding Knowledge of Child Labor for Listed End Products.

* * * * *

Certification Regarding Knowledge of Child Labor for Listed End Products (Feb 2021)

* * * * *

(b) * * *

Listed end product | Listed countries of origin

* * * * *

10. Amend section 52.223-3 by revising the date of the clause and the undesignated table in paragraph (b) to read as follows:

52.223-3 Hazardous Material Identification and Material Safety Data.

* * * * *

Hazardous Material Identification and Material Safety Data (Feb 2021)

* * * * *

(b) * * *

Material (if none, insert None) | Identification No.

* * * * *

11. Amend section 52.225-2 by revising the date of the provision and paragraph (b) to read as follows:

52.225-2 Buy American Certificate.

* * * * *

Buy American Certificate (Feb 2021)

* * * * *

(b) Foreign End Products:

Line item No. | Country of origin

[List as necessary]

* * * * *

12. Amend section 52.225-4 by—

a. Revising the section heading and the date of the provision;

b. Revising the table in paragraphs (b) and (c);

c. Revising the date of Alternate II and the undesignated table in paragraph (b) of Alternate II; and

d. Revising the date of Alternate III and the table in paragraph (b) of Alternate III.

The revisions read as follows:

52.225-4 Buy American—Free Trade Agreements—Israeli Trade Act Certificate.

* * * * *

Buy American—Free Trade Agreements—Israeli Trade Act Certificate (Feb 2021)

* * * * *

(b) * * *

Free Trade Agreement Country End Products (Other than Bahrainian, Moroccan, Omani, Panamanian, or Peruvian End Products) or Israeli End Products:

Line item No. | Country of origin

[List as necessary]

(c) * * *

Other Foreign End Products:

Line item No. | Country of origin

[List as necessary]

* * * * *

Alternate II (Feb 2021). * * *

(b) * * *

Canadian or Israeli End Products:

Line item No. | Country of origin

[List as necessary]

Alternate III (Feb 2021). * * *

(b) * * *

Free Trade Agreement Country End Products (Other than Bahrainian, Korean, Moroccan, Omani, Panamanian, or Peruvian End Products) or Israeli End Products:

Line item No. | Country of origin

[List as necessary]

13. Amend section 52.225-6 by revising the date of the provision and the undesignated table in paragraph (b) to read as follows:

52.225-6 Trade Agreements Certificate.

* * * * *

Trade Agreements Certificate (Feb 2021)

* * * * *

(b) * * *

Other End Products:

Line item No. | Country of origin

[List as necessary]

* * * * *

14. Amend section 52.225-9 by revising the date of the clause and paragraph (b)(2) to read as follows:

52.225-9 Buy American—Construction Materials.

* * * * *

Buy American—Construction Materials (Feb 2021)

* * * * *

(b) * * *

(2) This requirement does not apply to information technology that is a commercial item or to the construction materials or components listed by the Government as follows:

____ [Contracting Officer to list applicable excepted materials or indicate “none”]

* * * * *

15. Amend section 52.225-13 by—

a. Revising the date of clause; and

b. Removing from paragraph (b) “http://www.treas.gov/offices/enforcement/ofac/sdn” and “http://www.treas.gov/offices/enforcement/ofac” and adding “https://home.treasury.gov/policy-issues/financial-sanctions/specially-designated-nationals-and-blocked-persons-list-sdn-human-readable-lists” and “https://home.treasury.gov/policy-issues/office-of-foreign-assets-control-sanctions-programs-and-information” in their places, respectively.

The revision reads as follows:

52.225-13 Restrictions on Certain Foreign Purchases.

* * * * *

Restrictions on Certain Foreign Purchases (Feb 2021)

* * * * *

16. Amend section 52.229-12 by—

a. Revising the date of clause; and

b. Removing from paragraph (d) “3ontractor must identify” and adding “the Contractor must identify” in its place.

The revision reads as follows:

52.229-12 Tax on Certain Foreign Procurements.

* * * * *

Tax on Certain Foreign Procurements (Feb 2021)

* * * * *

[FR Doc. 2020-29089 Filed 1-13-21; 8:45 am]

BILLING CODE 6820-EP-P